DEPARTMENT OF HOMELAND SECURITY

Federal Emergency Management Agency

44 CFR Part 64

[Docket ID FEMA-2015-0001; Internal Agency Docket No. FEMA-8397]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Bret Gates, Federal Insurance and Mitigation Administration, Federal Emergency Management Agency, 500 C Street SW., Washington, DC 20472, (202) 646-4133.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
New Hampshire:
Dover, City of, Strafford County | 330145 | November 19, 1973, Emerg; April 15, 1980, Reg; September 30, 2015, Susp. | September 30, 2015 | September 30, 2015
Durham, Town of, Strafford County | 330146 | October 1, 1975, Emerg; May 3, 1990, Reg; September 30, 2015, Susp. | ......do | Do.
Madbury, Town of, Strafford County | 330219 | N/A, Emerg; March 4, 2010, Reg; September 30, 2015, Susp. | ......do | Do.
Rollinsford, Town of, Strafford County | 330190 | August 18, 1978, Emerg; April 2, 1986, Reg; September 30, 2015, Susp. | ......do | Do.
Region III
Pennsylvania:
Allenport, Borough of, Washington County | 420845 | March 10, 1975, Emerg; July 16, 1981, Reg; September 30, 2015, Susp. | ......do | Do.
Amwell, Township of, Washington County | 422615 | January 17, 1975, Emerg; September 15, 1989, Reg; September 30, 2015, Susp. | ......do | Do.
Beallsville, Borough of, Washington County | 422129 | May 21, 1979, Emerg; September 24, 1984, Reg; September 30, 2015, Susp. | ......do | Do.
Bentleyville, Borough of, Washington County | 420846 | October 15, 1974, Emerg; June 17, 1986, Reg; September 30, 2015, Susp. | ......do | Do.
Blaine, Township of, Washington County | 422141 | April 25, 1979, Emerg; July 2, 1982, Reg; September 30, 2015, Susp. | ......do | Do.
Buffalo, Township of, Washington County | 421200 | April 7, 1975, Emerg; June 11, 1982, Reg; September 30, 2015, Susp. | ......do | Do.
Burgettstown, Borough of, Washington County | 420847 | February 18, 1976, Emerg; February 17, 1989, Reg; September 30, 2015, Susp. | ......do | Do.
California, Borough of, Washington County | 420848 | July 5, 1974, Emerg; June 15, 1981, Reg; September 30, 2015, Susp. | ......do | Do.
Canonsburg, Borough of, Washington County | 420849 | December 10, 1974, Emerg; April 1, 1980, Reg; September 30, 2015, Susp. | ......do | Do.
Canton, Township of, Washington County | 421201 | May 20, 1975, Emerg; November 5, 1986, Reg; September 30, 2015, Susp. | ......do | Do.
Carroll, Township of, Washington County | 422142 | October 29, 1974, Emerg; March 18, 1980, Reg; September 30, 2015, Susp. | ......do | Do.
Cecil, Township of, Washington County | 422143 | November 8, 1974, Emerg; September 5, 1979, Reg; September 30, 2015, Susp. | ......do | Do.
Centerville, Borough of, Washington County | 422552 | March 22, 1976, Emerg; June 15, 1981, Reg; September 30, 2015, Susp. | ......do | Do.
Charleroi, Borough of, Washington County | 420850 | October 4, 1974, Emerg; July 16, 1981, Reg; September 30, 2015, Susp. | ......do | Do.
Chartiers, Township of, Washington County | 422144 | November 20, 1975, Emerg; February 1, 1980, Reg; September 30, 2015, Susp. | ......do | Do.
Coal Center, Borough of, Washington County | 422131 | April 17, 1975, Emerg; September 30, 1981, Reg; September 30, 2015, Susp. | ......do | Do.
Cross Creek, Township of, Washington County | 422145 | June 5, 1975, Emerg; February 1, 1987, Reg; September 30, 2015, Susp. | ......do | Do.
Deemston, Borough of, Washington County | 422132 | November 20, 1975, Emerg; May 1, 1985, Reg; September 30, 2015, Susp. | ......do | Do.
Donegal, Township of, Washington County | 422146 | March 23, 1977, Emerg; October 15, 1982, Reg; September 30, 2015, Susp. | ......do | Do.
Donora, Borough of, Washington County | 420851 | July 29, 1974, Emerg; June 10, 1980, Reg; September 30, 2015, Susp. | ......do | Do.
Dunlevy, Borough of, Washington County | 422133 | December 5, 1974, Emerg; July 16, 1981, Reg; September 30, 2015, Susp. | ......do | Do.
East Bethlehem, Township of, Washington County | 422140 | March 18, 1975, Emerg; July 16, 1981, Reg; September 30, 2015, Susp. | ......do | Do.
East Finley, Township of, Washington County | 422147 | March 1, 1977, Emerg; May 1, 1985, Reg; September 30, 2015, Susp. | ......do | Do.
Elco, Borough of, Washington County | 420852 | October 30, 1974, Emerg; July 16, 1981, Reg; September 30, 2015, Susp. | ......do | Do.
Ellsworth, Borough of, Washington County | 422553 | June 10, 1975, Emerg; September 10, 1984, Reg; September 30, 2015, Susp. | ......do | Do.
Fallowfield, Township of, Washington County | 422148 | October 15, 1975, Emerg; February 17, 1989, Reg; September 30, 2015, Susp. | ......do | Do.
Finleyville, Borough of, Washington County | 422135 | July 11, 1975, Emerg; September 1, 1986, Reg; September 30, 2015, Susp. | ......do | Do.
Hanover, Township of, Washington County | 422555 | December 3, 1975, Emerg; September 24, 1985, Reg; September 30, 2015, Susp. | ......do | Do.
Hopewell, Township of, Washington County | 422556 | June 12, 1975, Emerg; August 6, 1982, Reg; September 30, 2015, Susp. | ......do | Do.
Houston, Borough of, Washington County | 422594 | October 24, 1974, Emerg; December 18, 1979, Reg; September 30, 2015, Susp. | ......do | Do.
Independence, Township of, Washington County | 421202 | October 4, 1974, Emerg; February 1, 1987, Reg; September 30, 2015, Susp. | ......do | Do.
Jefferson, Township of, Washington County | 422557 | July 24, 1975, Emerg; June 30, 1976, Reg; September 30, 2015, Susp. | ......do | Do.
Long Branch, Borough of, Washington County | 422136 | August 6, 1975, Emerg; September 1, 1986, Reg; September 30, 2015, Susp. | ......do | Do.
Marianna, Borough of, Washington County | 420854 | January 21, 1975, Emerg; June 19, 1989, Reg; September 30, 2015, Susp. | ......do | Do.
Midway, Borough of, Washington County | 422558 | March 22, 1976, Emerg; August 15, 1989, Reg; September 30, 2015, Susp. | ......do | Do.
Monongahela, City of, Washington County | 420856 | May 14, 1971, Emerg; July 3, 1986, Reg; September 30, 2015, Susp. | ......do | Do.
Morris, Township of, Washington County | 422559 | October 29, 1975, Emerg; August 5, 1985, Reg; September 30, 2015, Susp. | ......do | Do.
New Eagle, Borough of, Washington County | 420857 | December 5, 1974, Emerg; March 18, 1980, Reg; September 30, 2015, Susp. | ......do | Do.
North Bethlehem, Township of, Washington County | 422560 | October 17, 1975, Emerg; October 15, 1985, Reg; September 30, 2015, Susp. | ......do | Do.
North Charleroi, Borough of, Washington County | 422137 | December 13, 1974, Emerg; July 16, 1981, Reg; September 30, 2015, Susp. | ......do | Do.
North Franklin, Township of, Washington County | 422150 | September 10, 1975, Emerg; July 4, 1989, Reg; September 30, 2015, Susp. | ......do | Do.
North Strabane, Township of, Washington County | 422151 | December 10, 1974, Emerg; February 15, 1980, Reg; September 30, 2015, Susp. | ......do | Do.
Nottingham, Township of, Washington County | 422561 | June 5, 1975, Emerg; September 10, 1984, Reg; September 30, 2015, Susp. | ......do | Do.
Peters, Township of, Washington County | 422152 | July 29, 1975, Emerg; November 1, 1979, Reg; September 30, 2015, Susp. | ......do | Do.
Robinson, Township of, Washington County | 422562 | June 22, 1976, Emerg; February 25, 1983, Reg; September 30, 2015, Susp. | ......do | Do.
Roscoe, Borough of, Washington County | 420858 | March 20, 1975, Emerg; July 16, 1981, Reg; September 30, 2015, Susp. | ......do | Do.
Smith, Township of, Washington County | 422153 | May 2, 1975, Emerg; July 1, 1986, Reg; September 30, 2015, Susp. | ......do | Do.
Somerset, Township of, Washington County | 422154 | May 20, 1975, Emerg; July 1, 1986, Reg; September 30, 2015, Susp. | ......do | Do.
South Franklin, Township of, Washington County | 422563 | September 11, 1975, Emerg; July 17, 1989, Reg; September 30, 2015, Susp. | ......do | Do.
South Strabane, Township of, Washington County | 422155 | March 6, 1975, Emerg; April 15, 1980, Reg; September 30, 2015, Susp. | ......do | Do.
Speers, Borough of, Washington County | 422138 | November 29, 1974, Emerg; July 16, 1981, Reg; September 30, 2015, Susp. | ......do | Do.
Stockdale, Borough of, Washington County | 420859 | September 13, 1974, Emerg; July 16, 1981, Reg; September 30, 2015, Susp. | ......do | Do.
Twilight, Borough of, Washington County | 422564 | July 3, 1975, Emerg; September 28, 1979, Reg; September 30, 2015, Susp. | ......do | Do.
Washington, City of, Washington County | 420861 | October 23, 1974, Emerg; November 5, 1986, Reg; September 30, 2015, Susp. | ......do | Do.
West Bethlehem, Township of, Washington County | 422156 | February 22, 1977, Emerg; September 1, 1986, Reg; September 30, 2015, Susp. | ......do | Do.
West Brownsville, Borough of, Washington County | 425391 | December 3, 1971, Emerg; April 27, 1973, Reg; September 30, 2015, Susp. | ......do | Do.
West Finley, Township of, Washington County | 422565 | March 28, 1980, Emerg; September 24, 1984, Reg; September 30, 2015, Susp. | ......do | Do.
West Pike Run, Township of, Washington County | 422157 | October 25, 1974, Emerg; September 1, 1986, Reg; September 30, 2015, Susp. | ......do | Do.
Region V
Illinois:
Schuyler County, Unincorporated Areas | 170605 | April 19, 1979, Emerg; July 18, 1985, Reg; September 30, 2015, Susp. | ......do | Do.
Indiana:
Beverly Shores, Town of, Porter County | 185173 | October 1, 1971, Emerg; March 23, 1973, Reg; September 30, 2015, Susp. | ......do | Do.
Burns Harbor, Town of, Porter County | 180207 | April 18, 1975, Emerg; August 4, 1988, Reg; September 30, 2015, Susp. | ......do | Do.
Chesterton, Town of, Porter County | 180201 | February 28, 1975, Emerg; February 1, 1980, Reg; September 30, 2015, Susp. | ......do | Do.
Dune Acres, Town of, Porter County | 180205 | June 6, 1975, Emerg; April 24, 1981, Reg; September 30, 2015, Susp. | ......do | Do.
Hebron, Town of, Porter County | 180387 | March 18, 1976, Emerg; October 9, 1981, Reg; September 30, 2015, Susp. | ......do | Do.
Kosciusko County, Unincorporated Areas | 180121 | July 30, 1975, Emerg; February 4, 1987, Reg; September 30, 2015, Susp. | ......do | Do.
Mentone, Town of, Kosciusko County | 180459 | N/A, Emerg; June 10, 2008, Reg; September 30, 2015, Susp. | ......do | Do.
Milford, Town of, Kosciusko County | 180382 | January 14, 1988, Emerg; January 14, 1988, Reg; September 30, 2015, Susp. | ......do | Do.
Nappanee, City of, Elkhart and Kosciusko Counties | 180059 | May 30, 1975, Emerg; August 15, 1983, Reg; September 30, 2015, Susp. | ......do | Do.
North Webster, Town of, Kosciusko County | 180465 | N/A, Emerg; March 24, 1994, Reg; September 30, 2015, Susp. | ......do | Do.
Ogden Dunes, Town of, Porter County | 180206 | November 23, 1976, Emerg; August 5, 1986, Reg; September 30, 2015, Susp. | ......do | Do.
Pines, Town of, Porter County | 180388 | N/A, Emerg; August 9, 2011, Reg; September 30, 2015, Susp. | ......do | Do.
Portage, City of, Porter County | 180202 | August 8, 1975, Emerg; June 1, 1982, Reg; September 30, 2015, Susp. | ......do | Do.
Porter, Town of, Porter County | 180208 | October 16, 1973, Emerg; June 4, 1980, Reg; September 30, 2015, Susp. | ......do | Do.
Porter County, Unincorporated Areas | 180425 | September 5, 1975, Emerg; April 1, 1982, Reg; September 30, 2015, Susp. | ......do | Do.
Silver Lake, Town of, Kosciusko County | 180311 | N/A, Emerg; February 7, 2014, Reg; September 30, 2015, Susp. | ......do | Do.
Syracuse, Town of, Kosciusko County | 180122 | May 30, 1975, Emerg; February 4, 1987, Reg; September 30, 2015, Susp. | ......do | Do.
Valparaiso, City of, Porter County | 180204 | March 24, 1975, Emerg; March 2, 1979, Reg; September 30, 2015, Susp. | ......do | Do.
Warsaw, City of, Kosciusko County | 180123 | March 26, 1975, Emerg; February 4, 1987, Reg; September 30, 2015, Susp. | ......do | Do.
Winona Lake, Town of, Kosciusko County | 180124 | October 14, 1975, Emerg; September 4, 1985, Reg; September 30, 2015, Susp. | ......do | Do.
Minnesota:
Ada, City of, Norman County | 270323 | April 30, 1974, Emerg; August 2, 1982, Reg; September 30, 2015, Susp. | ......do | Do.
Halstad, City of, Norman County | 270324 | February 5, 1975, Emerg; June 15, 1979, Reg; September 30, 2015, Susp. | ......do | Do.
Hendrum, City of, Norman County | 270325 | July 5, 1974, Emerg; December 18, 1979, Reg; September 30, 2015, Susp. | ......do | Do.
Kandiyohi County, Unincorporated Areas | 270629 | April 23, 1974, Emerg; July 17, 1986, Reg; September 30, 2015, Susp. | ......do | Do.
Lake Lillian, City of, Kandiyohi County | 270219 | March 10, 2014, Emerg; N/A, Reg; September 30, 2015, Susp. | ......do | Do.
New London, City of, Kandiyohi County | 270220 | August 11, 1975, Emerg; November 15, 1985, Reg; September 30, 2015, Susp. | ......do | Do.
Norman County, Unincorporated Areas | 270322 | January 23, 1974, Emerg; September 2, 1981, Reg; September 30, 2015, Susp. | ......do | Do.
Perley, City of, Norman County | 270326 | April 26, 1974, Emerg; June 15, 1979, Reg; September 30, 2015, Susp. | ......do | Do.
Raymond, City of, Kandiyohi County | 270222 | March 5, 1975, Emerg; September 18, 1987, Reg; September 30, 2015, Susp. | ......do | Do.
Shelly, City of, Norman County | 270327 | August 16, 1974, Emerg; September 2, 1981, Reg; September 30, 2015, Susp. | ......do | Do.
Region IX
California:
El Cerrito, City of, Contra Costa County | 065027 | March 5, 1971, Emerg; June 1, 1977, Reg; September 30, 2015, Susp. | ......do | Do.
*-do- =Ditto.
Code for reading third column: Emerg. —Emergency; Reg. —Regular; Susp. —Suspension.

Dated: August 20, 2015.
Roy E. Wright,
Deputy Associate Administrator, Federal Insurance and Mitigation Administration, Department of Homeland Security, Federal Emergency Management Agency.

[FR Doc. 2015-21657 Filed 8-31-15; 8:45 am]

BILLING CODE 9110-12-P